ENVIRONMENTAL PROTECTION AGENCY

40 CFR Part 52

[EPA-OAR-R04-2008-0512-200815 (b); FRL-8706-3]

Approval and Promulgation of Plans; North Carolina; Miscellaneous Revisions

AGENCY: Environmental Protection Agency (EPA).

ACTION: Proposed rule.

SUMMARY: EPA is proposing to approve revisions to the State Implementation Plan submitted by the North Carolina Department of Environment and Natural Resources on behalf of the State of North Carolina on April 16, 2001, April 4, 2003, and December 14, 2004. The purpose of these revisions is to require continuous emissions monitoring systems be used to determine compliance; specify a 24-hour block averaging time for sulfur dioxide emissions; make a correction to a cross-reference; provide options for supplying missing data and for determining heat input; and make several revisions to permit exemptions. This action is being taken pursuant to section 110 of the Clean Air Act.

In the Final Rules Section of this Federal Register, EPA is approving the State's SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before September 22, 2008.

ADDRESSES: Submit your comments, identified by Docket ID No. EPA-OAR-R04-2008-0512 by one of the following methods:

1. http://www.regulations.gov: Follow the on-line instructions for submitting comments.

2. E-mail: ward.nacosta@epa.gov.

3. Fax: (404) 562-9019.

4. Mail: “EPA-OAR-R04-2008-0512,” Regulatory Development Section, Air Planning Branch, Air, Pesticides and Toxics Management Division, U.S. Environmental Protection Agency, Region 4, 61 Forsyth Street, SW., Atlanta, Georgia 30303-8960.

5. Hand Delivery or Courier: Nacosta C. Ward, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: Nacosta C. Ward, Regulatory Development Section, Air Planning Branch, Air, Pesticides and Toxics Management Division, U.S. Environmental Protection Agency, Region 4, 61 Forsyth Street, SW., Atlanta, Georgia 30303-8960. The telephone number is (404) 562-9140. Ms. Ward can also be reached via electronic mail at ward.nacosta@epa.gov.

SUPPLEMENTARY INFORMATION: For additional information see the direct final rule which is published in the Rules Section of this Federal Register.

Dated: August 6, 2008.
Russell L. Wright, Jr.,
Acting Deputy Regional Administrator, Region 4.

[FR Doc. E8-19191 Filed 8-21-08; 8:45 am]

BILLING CODE 6560-50-P